DEPARTMENT OF THE INTERIOR

Fish and Wildlife Service

[FWS-R9-IA-2009-N0133; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by August 7, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Duke University, Department of Evolutionary Anthropology, Durham, NC, PRT-215717

The applicant requests a permit to acquire in interstate and foreign commerce and to import biological specimens from various non-human primate species (Order Primates), including all species of lemurids, prosimians, New and Old World monkeys, and apes for the purpose of scientific research. This notification covers activities to be conducted by the applicant over a five-year period.

Applicant: Exotic Feline Breeding Compound, Inc., Rosamond, CA, PRT-215034

The applicant requests a permit to import one female captive-born Iranian leopard (Panthera pardus saxicolor) from the ZooParc de Beauval, France, for the purpose of enhancement of the survival of the species.

Applicant: Victoria E. Wobber, Cambridge, MA, PRT-207589

The applicant requests a permit to import biological samples from wild bonobos (Pan paniscus) held at Lola ya Bonobo Sancturary, Kinshasa, Democratic Republic of Congo, and wild common chimpanzees (Pan troglodytes) held at Tchimpounga Chimpanzee Sanctuary, Pointe Noire, Congo Republic, for the purpose of scientific research. This notification covers activities to be conducted by the applicant over a 5 year period.

The following applicants request a permit to import the sport-hunted trophy of one male straight horned markhor (Capra falconeri jerdoni) from the Torghar Conservation Project, Pakistan, for the purpose of enhancement of the survival of the species.

Applicant: Jerry L. Brenner, West Olive, MI, PRT-217355

Applicant: Barbara L. Sackman, Sands Point, NY, PRT-217353

Applicant: Alan Sackman, Sands Point, NY, PRT 217349

The following applicants request a permit to import the sport-hunted trophy of one male bontebok (Damaliscus pygargus pygargus) culled from a captive herd maintained under the management program of the Republic of South Africa, for the purpose of enhancement of the survival of the species.

Applicant: James L. Scull, Rapid City, SD, PRT-213672

Applicant: William R. Morgan III, Salisbury, MD, PRT-216076

Applicant: Donald E. Coon, Sheridan, WY, PRT-216468

Applicant: Wayne M. Pourciau, New Iberia, LA, PRT-217668

Applicant: Thomas H. Blue, Eagle Springs, NC, PRT-211307

Applicant: Arlan M. Buckmeier, Fairbanks, AK, PRT-211337

Applicant: Kevin Atkinson, Northville, MI, PRT-217634

Dated: June 26, 2009
Lisa J. Lierheimer,
Senior Permit Biologist, Branch of Permits, Division of Management Authority

[FR Doc. E9-16003 Filed 7-7-09; 8:45 am]

BILLING CODE 4310-55-S